DEPARTMENT OF HOMELAND SECURITY

Coast Guard

33 CFR Part 165

[Docket No. USCG-2021-0585]

Safety Zones; Fireworks Displays, Air Shows and Swim Events in the Captain of the Port Long Island Sound Zone

AGENCY: Coast Guard, Department of Homeland Security (DHS).

ACTION: Notification of enforcement of regulation.

SUMMARY: The Coast Guard will enforce safety zones for marine events in the Long Island Sound Captain of the Port Zone on the dates and times provided in the tables below. This action is necessary to provide for the safety of life and property along the navigable waterways. During the enforcement periods, all vessels that transit in the locations listed must adhere to the regulations unless specified by the Captain of the Port (COTP) or designated representative.

DATES: The regulations in 33 CFR 165.151 will be enforced for 9.3 Village of Island Park Labor Day Celebration Fireworks, 9.4 The Creek Fireworks, and 9.7 Dolan Family Labor Day Fireworks regulated areas listed in the Table to § 165.151 from 8:30 p.m. to 10:30 p.m. on September 4 and 6, 2021.

FOR FURTHER INFORMATION CONTACT: If you have questions about this notification of enforcement, call or email MST1 Chris Gibson, Waterways Management Division, U.S. Coast Guard; telephone 203-468-4565, email chris.a.gibson@uscg.mil.

SUPPLEMENTARY INFORMATION: The Coast Guard will enforce the safety zones listed in 33 CFR 165.151 at the specified dates and times indicated below.

Table 1 to § 165.151
9.3 Village of Island Park Labor Day Celebration Fireworks | • Date: September 4, 2021. From 8:30 p.m. to 10:30 p.m. • Location: Waters off Village of Island Park Fishing Pier, Village Beach, NY, in approximate position 40°36′30.95″ N, 073°39′22.23″ W (NAD 83).
9.4 The Creek Fireworks | • Date: September 4, 2021. From 8:30 p.m. to 10:30 p.m.
| • Location: Waters of Long Island Sound off the Creek Golf Course, Lattingtown, NY, in approximate position 40°54′13″ N, 073°35′58″ W (NAD 83).
9.7 Dolan Family Labor Day Fireworks | • Date: September 6, 2021. From 8:30 p.m. to 10:30 p.m.
| • Location: Waters of Oyster Bay Harbor in Long Island Sound off Oyster Bay, NY in approximate position 40°53′43.50″ N, 073°30′06.85″ W.

This action is being taken to provide for the safety of life on navigable waterways during these events. During the enforcement periods, as reflected in § 165.151, the established safety zones prohibit persons and vessels entering into, transiting through, mooring, or anchoring unless they receive permission from the COTP or designated representative.

This notification issued under authority 46 U.S.C. 70041 and 5 U.S.C. 552 (a). In addition to this notice of enforcement in the Federal Register, the Coast Guard plans to provide notification of this enforcement period via the Local Notice to Mariners. If the COTP determines that the safety zone is no longer enforceable for the full duration in this notification, a Broadcast Notice to Mariners may grant permission to enter the regulated area.

Dated: August 27, 2021.
E.J. Van Camp,
Captain, U.S. Coast Guard, Captain of the Port Long Island Sound.

[FR Doc. 2021-19149 Filed 9-3-21; 8:45 am]

BILLING CODE 9110-04-P